DEPARTMENT OF ENERGY

Federal Energy Regulatory Commission

[Docket No. EC01-117-000, et al.]

Mobile Energy LLC, et al.; Electric Rate and Corporate Regulation Filings

July 18, 2001.

Take notice that the following filings have been made with the Commission:

1. Mobile Energy LLC, Skygen Investors LLC, Intergen North America, Development Company LLC, Tejas Power Generation LLC

[Docket No. EC01-117-000]

Take notice that on July 6, 2001, Mobile Energy LLC (Mobile), SkyGen Investors LLC (SkyGen), InterGen North America Development Company LLC (InterGen), and Tejas Power Generation LLC (Tejas) (collectively, Applicants) submitted for filing an amendment to the application under section 203 of the Federal Power Act for authorization of a disposition of jurisdictional facilities in connection with the transfer of an equity interest in Mobile from InterGens affiliate Tejas to SkyGen or its affiliate.

Comment date: August 13, 2001, in accordance with Standard Paragraph E at the end of this notice.

2. PacifiCorp

[Docket Nos. ER01-1353-000, ER01-1354-000 and ER01-1355-000 (Not consolidated)]

Take notice that on July 2, 2001, Deseret Generation & Transmission Co-operative, Inc., on behalf of itself, Utah Associated Municipal Power Systems, Utah Municipal Power Agency, and PacifiCorp, tendered for filing a Second Joint Status Report on the status of the negotiations in the above captioned proceedings.

Copies of this filing were supplied to the Washington Utilities and Transportation Commission and the Public Utility Commission of Oregon.

3. Duke Energy Corporation

[Docket No. ER01-1616-003]

Take notice that on July 13, 2001, Duke Energy Corporation (Duke) filed a compliance filing submitting revisions to its OATT and an unexecuted Interconnection and Operating Agreement with Carolina Power & Light Company in the above-captioned docket.

Comment date: August 3, 2001, in accordance with Standard Paragraph E at the end of this notice.

4. Central Illinois Light Company

[Docket No. ER01-1768-001]

Take notice that on July 13, 2001, Central Illinois Light Company (CILCO), of Peoria, Illinois tendered for filing with the Commission a revised cover page for its Agreement with Altorfer Inc.

Copies of the filing were served on the affected customer and the Illinois Commerce Commission.

Comment date: August 3, 2001, in accordance with Standard Paragraph E at the end of this notice.

5. Tampa Electric Company

[Docket No. ER01-1898-001]

Take notice that on July 13, 2001, Tampa Electric Company (Tampa Electric) refiled its interchange service contract with Alabama Power Company, Georgia Power Company, Gulf Power Company, Mississippi Power Company, Savannah Electric and Power Company, and Southern Company Services, Inc. (collectively, Southern Companies) in the format required by the Commission's Order No. 614. The filing was made in compliance with the Commission's letter order dated June 19, 2001, in Docket No. ER01-1898-000.

A copy of the compliance filing has been served on each person designated on the official service list in this docket, the Southern Companies, and the Florida Public Service Commission.

Comment date: August 3, 2001, in accordance with Standard Paragraph E at the end of this notice.

6. Calhoun Power Company, LLC

[Docket No. ER01-2074-001]

Take notice that on July 13, 2001, Calhoun Power Company, LLC (Calhoun) tendered for filing revised tariff sheets to Gray County's FERC Electric Tariff, Original Volume No.1 in compliance with the Letter Order issued on July 11, 2001 in this Docket No. ER01-2074-000 and a designation for its long term power purchase agreement. The tariff revision specifies the ancillary services Calhoun intends to provide and the ISO in which it intends to provide each service, and omits a provision to sell products that are not ancillary services within the meaning of Order No. 888.

Comment date: August 3, 2001, in accordance with Standard Paragraph E at the end of this notice.

7. Morrow Power, LLC

[Docket No. ER01-2509-000]

Take notice that on July 3, 2001, Morrow Power, LLC (Morrow Power) petitioned the Federal Energy Regulatory Commission (Commission) on June 28, 2001, for authority to sell electricity at market-based rates under Section 205(a) of the Federal Power Act for granting of certain blanket approvals and for the waiver of certain Commission regulations. Morrow Power is a limited liability company that proposes to engage in the wholesale sale of electric power in the State of Oregon.

Comment date: July 31, 2001, in accordance with Standard Paragraph E at the end of this notice.

8. Arizona Public Service Company

[Docket No. ER01-2564-000]

Take notice that on July 10, 2001, Arizona Public Service Company (APS) tendered for filing a revised Contract Demand Exhibit I applicable under the APS-FERC Rate Schedule No. 192 between APS and the city of Williams (Williams) for the operating year 2002.

Copies of this filing have been served on the city of Williams (Williams), and the Arizona Corporation Commission.

Comment date: July 31, 2001, in accordance with Standard Paragraph E at the end of this notice.

9. Louisville Gas and Electric Company/Kentucky Utilities Company

[Docket No. ER01-2579-000]

Take notice that on July 13, 2001, Louisville Gas and Electric Company (LG&E)/Kentucky Utilities (KU) (hereinafter Companies) tendered for filing an executed interconnection and operating agreement with Bluegrass Generation Company, LLC. (Bluegrass). This agreement outlines the requirements that allows Bluegrass to connect to the Companies transmission system in anticipation of purchasing transmission service at some future date.

Comment date: August 3, 2001, in accordance with Standard Paragraph E at the end of this notice.

10. Progress Energy Inc. on behalf of Carolina Power & Light Company

[Docket No. ER01-2580-000]

Take notice that on July 13, 2001, Carolina Power & Light Company (CP&L) tendered for filing an executed Service Agreement between CP&L and the following eligible buyer, Ameren Energy, Inc. Service to this eligible buyer will be in accordance with the terms and conditions of CP&L's Market-Based Rates Tariff, FERC Electric Tariff No. 4, for sales of capacity and energy at market-based rates. Copies of the filing were served upon the North Carolina Utilities Commission and the South Carolina Public Service Commission.

CP&L requests an effective date of July 12, 2001 for this Service Agreement.

Comment date: August 3, 2001, in accordance with Standard Paragraph E at the end of this notice.

11. Progress Energy Inc. on behalf of Carolina Power & Light Company

[Docket No. ER01-2581-000]

Take notice that on July 13, 2001, Carolina Power & Light Company (CP&L) tendered for filing an executed Service Agreement between CP&L and the following eligible buyer, American Electric Power Service Corporation as agent for the AEP Operating Companies. Service to this eligible buyer will be in accordance with the terms and conditions of CP&L's Market-Based Rates Tariff, FERC Electric Tariff No. 4, for sales of capacity and energy at market-based rates. Copies of the filing were served upon the North Carolina Utilities Commission and the South Carolina Public Service Commission.

CP&L requests an effective date of July 12, 2001 for this Service Agreement.

Comment date: August 3, 2001, in accordance with Standard Paragraph E at the end of this notice.

12. Southern California Edison Company

[Docket No. ER01-2582-000]

Notice is hereby given that effective September 13, 2000, Rate Schedule FERC Nos. 286, 286.1, 286.1.1, 286.2, and 286.3, effective June 1, 1996, and filed with the Federal Energy Regulatory Commission by Southern California Edison Company are to be canceled.

Notice of the proposed cancellation has been served upon the Public Utilities Commission of the State of California and Nevada Power Company.

Comment date: August 3, 2001, in accordance with Standard Paragraph E at the end of this notice.

13. Northeast Utilities Service Company (Connecticut—Long Island Cable)

[Docket No. ER01-2584-000]

Take notice that on July 13, 2001, Northeast Utilities Service Company (NUSCO), on behalf of a yet-to-be-named affiliate or affiliates (NUSUB), tendered for filing, under section 205 of the Federal Power Act, a rate schedule under which NUSUB will provide transmission service over a proposed non-rate based transmission facility connecting Norwalk, Connecticut and Long Island, New York.

An effective date of September 30, 2001, is requested.

Comment date: August 3, 2001, in accordance with Standard Paragraph E at the end of this notice.

14. Louisville Gas and Electric Company/Kentucky Utilities Company

[Docket No. ERO1-2585-000]

Take notice that on July 13, 2001, Louisville Gas and Electric Company (LG&E)/Kentucky Utilities (KU) (hereinafter Companies) tendered for filing an executed unilateral Service Sales Agreement between Companies and Exelon Generation Company, LLC. under the Companies' Rate Schedule MBSS.

Comment date: August 3, 2001, in accordance with Standard Paragraph E at the end of this notice.

15. ARE Generation Company, L.L.C.

[Docket No. ER01-2586-000]

Take notice that on July 13, 2001, ARE Generation Company, L.L.C. (AGC) petitioned the Federal Energy Regulatory Commission to grant certain blanket authorizations, to waive certain of the Commission's Regulations and to issue an order accepting AGC's FERC Electric Tariff, Original Volume No. 1.

Comment date: August 3, 2001, in accordance with Standard Paragraph E at the end of this notice.

16. Southern Company Services, Inc.

[Docket No. ER01-2587-000]

Take notice that on July 13, 2001, Southern Company Services, Inc. (SCS), acting on behalf of Alabama Power Company, Georgia Power Company, Gulf Power Company, Mississippi Power Company, and Savannah Electric and Power Company (collectively referred to as Southern Company), filed two (2) service agreements for long-term firm point-to-point transmission service between SCS, as agent for Southern Company, and the following entities: (i) Georgia Electric Marketing (Regarding OASIS Request 170426); and (ii) Southern Wholesale Energy (Regarding OASIS Requests 214519 and 214520) under the Open Access Transmission Tariff (Tariff) of Southern Company (FERC Electric Tariff, Fourth Revised Volume No. 5).

Comment date: August 3, 2001, in accordance with Standard Paragraph E at the end of this notice.

17. Xcel Energy Services, Inc.

[Docket No. ER01-2588-000]

Take notice that on July 13, 2001, Xcel Energy Services, Inc. (XES), on behalf of Public Service Company of Colorado (Public Service), submitted for filing an Agreement for Services between Public Service and Colorado River Commission (CRC), which is in accordance with Public Service's Rate Schedule for Market-Based Power Sales (Public Service FERC Electric Tariff, First Revised Volume No. 6). XES requests that this agreement become effective on July 12, 2001.

Comment date: August 3, 2001, in accordance with Standard Paragraph E at the end of this notice.

18. Virginia Electric and Power Company

[Docket No. ER01-2589-000]

Take notice that on July 13, 2001, Virginia Electric and Power Company (Dominion Virginia Power or the Company) Service Agreements are tendered for filing under the Open Access Transmission Tariff to Eligible Purchasers effective June 7, 2000.

Copies of the filing were served upon Dominion Energy Clearinghouse, the Virginia State Corporation Commission, and the North Carolina Utilities Commission.

Dominion Virginia Power requests an effective date of July 13, 2001.

Comment date: August 3, 2001, in accordance with Standard Paragraph E at the end of this notice.

19. Virginia Electric and Power Company

[Docket No. ER01-2590-000]

Take notice that on July 13, 2001, Virginia Electric and Power Company (Dominion Virginia Power or the Company) tendered for filing the foregoing Service Agreements under the Open Access Transmission Tariff to Eligible Purchasers effective June 7, 2000. Under the tendered Service Agreements, Dominion Virginia Power will provide point-to-point service to Engage Energy America LLC under the rates, terms and conditions of the Open Access Transmission Tariff. Dominion Virginia Power requests an effective date of July 13, 2001, the date of filing of the service agreement.

Copies of the filing were served upon Engage Energy America LLC, the Virginia State Corporation Commission, and the North Carolina Utilities Commission.

Comment date: August 3, 2001, in accordance with Standard Paragraph E at the end of this notice.

20. Jersey Central Power and Light Company

[Docket No. ER01-2594-000]

Take notice that on July 13, 2001, Jersey Central Power and Light Company (doing business as and hereinafter referred to as GPU Energy) hereby submits for filing a Distributed Resource Purchase Tariff under which GPU Energy will purchase electricity from retail customers in New Jersey who own on-site electric generation capacity primarily utilized for standby electric generation. In addition, GPU Energy requests waiver of certain Commission regulations and market-based rate authority for the Participants.

Comment date: August 3, 2001, in accordance with Standard Paragraph E at the end of this notice.

21. Cordova Energy Company LLC

[Docket No. ER01-2595-000]

Take notice that on July 13, 2001, Cordova Energy Company LLC (Cordova) tendered for filing under its market-based rate schedule a Power Purchase Agreement (Agreement) between Cordova and El Paso Power Services Company, dated July 6, 1999. Cordova requests an effective date of June 13, 2001.

Comment date: August 3, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18447 Filed 7-24-01; 8:45 am]

BILLING CODE 6717-01-P